DEPARTMENT OF COMMERCE

Foreign-Trade Zones Board

[Order No. 1231]

Expansion of Foreign-Trade Zone 8, Toledo, Ohio, Area

Correction

In notice document 02-15343 appearing on page 41393 in the issue of Tuesday, June 18, 2002, the subject heading is corrected to read as set forth above.

[FR Doc. C2-15343 Filed 6-28-02; 8:45 am]

BILLING CODE 1505-01-D

DEPARTMENT OF THE INTERIOR

Minerals Management Service

30 CFR Part 250

RIN 1010-AC65

Oil and Gas and Sulphur Operations in the Outer Continental Shelf—Decommissioning Activities

Correction

In rule document 02-11640 beginning on page 35398 in the issue of Friday, May 17, 2002, make the following corrections:

§250.1704 [Corrected]

On page 35407, the table should read as set forth below:

* * * * *

Decommissioning Applications and Reports Table
Decommissioning applications | When to submit | Instructions
(a) Initial platform removal application [not required in the Gulf of Mexico OCS Region] | In the Pacific OCS Region or Alaska OCS Region, submit the application to the Regional Supervisor at least 2 years before production is projected to cease | Include information required under § 250.1726.
(b) Final removal application for a platform or other facility | Before removing a platform or other facility in the Gulf of Mexico OCS Region, or not more than 2 years after the submittal of an initial platform removal application to the Pacific OCS Region and the Alaska OCS Region | Include information required under § 250.1727.
(c) Post-removal report for a platform or other facility | Within 30 days after you remove a platform or other facility | Include information required under § 250.1729.
(d) Pipeline decommissioning application | Before you decommission a pipeline | Include information required under § 250.1751(a) or § 250.1752(a), as applicable.
(e) Post-pipeline decommissioning report | Within 30 days after you decommission a pipeline | Include information required under § 250.1753.
(f) Form MMS-124, Sundry Notices and Reports on Wells | (1) Before you plug a well | Include information required under § 250.1712.
| (2) Within 30 days after you plug a well | Include information required under § 250.1717.
| (3) Within 30 days after you complete siteclearance activities | Include information required under § 250.1743(b).

§250.1715 [Corrected]

On page 35408, the table should read as set forth below:

(a)***

Permanent Well Plugging Requirements
If you have— | Then you must use—
(1) Zones in open hole | Cement plug(s) from at least 100 feet below the bottom to 100 feet above the top of oil, gas, and fresh-water zones to isolate fluids in the strata.
(2) Open hole below casing | (i) A cement plug set by the displacement method, at least 100 feet above and below deepest casing shoe; (ii) A cement retainer with effective back-pressure control set 50 to 100 feet above the casing shoe, and a cement plug that extends at least 100 feet below the casing shoe and at least 50 feet above the retainer; or (iii) A bridge plug 50 feet to 100 feet above the shoe with 50 feet of cement on top of the bridge plug, for expected or known lost circulation conditions.
(3) A perforated zone that is currently open and not previously squeezed or isolated | (i) A method to squeeze cement to all perforations; (ii) A cement plug set by the displacement method, at least 100 feet above to 100 feet below the perforated interval, or down to a casing plug, whichever is less; or (iii) If the perforated zones are isolated from the hole below, you may use any of the plugs specified in paragraphs (A) through (E) of this paragraph instead of those specified in paragraphs (3)(i) and (3)(ii) of this section:
| (A) A cement retainer with effective back-pressure control 50 to 100 feet above the top of the perforated interval, and a cement plug that extends at least 100 feet below the bottom of the perforated interval with at least 50 feet of cement above the retainer;
| (B) A bridge plug set 50 to 100 feet above the top of the perforated interval and at least 50 feet of cement on top of the bridge plug;
| (C) A cement plug at least 200 feet in length, set by the displacement method, with the bottom of the plug no more than 100 feet above the perforated interval;
| (D) A through-tubing basket plug set no more than 100 feet above the perforated interval with at least 50 feet of cement on top of the basket plug; or
| (E) A tubing plug set no more than 100 feet above the perforated interval topped with a sufficient volume of cement so as to extend at least 100 feet above the uppermost packer in the wellbore and at least 300 feet of cement in the casing annulus immediately above the packer.
(4) A casing stub where the stub end is within the casing | (i) A cement plug at least 100 feet above and below the stub end; (ii) A cement retainer or bridge plug set at least 50 to 100 feet above the stub end with at least 50 feet of cement on top of the retainer or bridge plug; or (iii) A cement plug at least 200 feet long with the bottom of the plug set no more than 100 feet above the stub end.
(5) A casing stub where the stub end is below the casing | A plug as specified in paragraph (a)(1) or (a)(2) of this section, as applicable.
(6) An annular space that communicates with open hole and extends to the mud line | A cement plug at least 200 feet long set in the annular space. For a well completed above the ocean surface, you must pressure test each casing annulus to verify isolation.
(7) A subsea well with unsealed annulus | A cutter to sever the casing, and you must set a stub plug as specified in paragraphs (a)(4) and (a)(5) of this section.
(8) A well with casing | A cement surface plug at least 150 feet long set in the smallest casing that extends to the mud line with the top of the plug no more than 150 feet below the mud line.
(9) Fluid left in the hole | A fluid in the intervals between the plugs that is dense enough to exert a hydrostatic pressure that is greater than the formation pressures in the intervals.

§ 250.1741 [Corrected]

On page 35411, the table should read as set forth below:

(g)***

For— | You must trawl— | And you must—
(1) Buried active pipelines |  | First contact the pipeline owner or operator to determine the condition of the pipeline before trawling over the buried pipeline.
(2) Unburied active pipelines that are 8 inches in diameter or larger | no closer than 100 feet to the either side of the pipeline | Trawl parallel to the pipeline Do not trawl across the pipeline.
(3) Unburied smaller diameter pipelines in the trawl area that have obstructions (e.g., pipeline valves) present | no closer than 100 feet to either side of the pipeline. | Trawl parallel to the pipeline. Do not trawl across the pipeline.
(4) Unburied active pipelines in the trawl area that are smaller than 8 inches in diameter and have no obstructions present | parallel to the pipeline. |

* * * * *

§ 250.1742 [Corrected]

* * * * *

On page 35412, the table should read as set forth below:

If you use— | You must— | And you must—
(a) Sonar | cover 100 percent of the appropriate grid area listed in § 250.1741(a) | Use a sonar signal with a frequency of at least 500 kHz.
(b) A diver | ensure that the diver visually inspects 100 percent of the appropriate grid area listed in § 250.1741(a) | Ensure that the diver uses a search pattern of concentric circles or parallel lines spaced no more than 10 feet apart.
(c) An ROV (remotely operated vehicle) | ensure that the ROV camera records videotape over 100 percent of the appropriate grid area listed in § 250.1741(a) | Ensure that the ROV uses a pattern of concentic circles or parallel lines spaced no more than 10 feet apart.

[FR Doc. C2-11640 Filed 6-28-02; 8:45 am]

BILLING CODE 1505-01-D